DEPARTMENT OF THE INTERIOR

Geological Survey

[GX16EE000101100]

National Geospatial Advisory Committee; Charter Renewal

AGENCY: U.S. Geological Survey, Interior.

ACTION: Notice.

SUMMARY: Notice is hereby given that the Secretary of the Interior has renewed the National Geospatial Advisory Committee (Committee), in accordance with Section 14(b) of the Federal Advisory Committee Act.

FOR FURTHER INFORMATION CONTACT: John Mahoney, U.S. Geological Survey, phone: 206-220-4621, email: jmahoney@usgs.gov.

SUPPLEMENTARY INFORMATION: The Committee provides advice and recommendations to the Federal Geographic Data Committee (FGDC), through the FGDC Chair (the Secretary of the Interior or designee), related to management of Federal geospatial programs, the development of the National Spatial Data Infrastructure, and the implementation of Office of Management and Budget (OMB) Circular A-16 and Executive Order 12906. The Committee will review and comment upon geospatial policy and management issues and will provide a forum to convey views representative of non-Federal partners in the geospatial community. The Committee will conduct its operations in accordance with the provisions of the FACA.

Certification

I hereby certify that the National Geospatial Advisory Committee is in the public interest in connection with the performance of duties imposed on the Department of the Interior by Office of Management and Budget (OMB) Circular A-16 (Revised), “Coordination of Geographic Information and Related Spatial Data Activities.” The Committee will assist the Department of the Interior by providing advice and recommendations related to the management of Federal geospatial programs and the development of the National Spatial Data Infrastructure.

Dated: January 19, 2016.
Sally Jewell,
Secretary of the Interior.

[FR Doc. 2016-02893 Filed 2-11-16; 8:45 am]

BILLING CODE 4311-AM-P